DEPARTMENT OF HEALTH AND HUMAN SERVICES

National Institutes of Health

National Institute of Mental Health; Notice of Meeting

Pursuant to section 10(a) of the Federal Advisory Committee Act, as amended (5 U.S.C. App.), notice is hereby given of a meeting of the Services Subcommittee of the Interagency Autism Coordinating Committee (IACC).

The purpose of the Services Subcommittee is to review the current state of services and supports for individuals with Autism Spectrum Disorder (ASD) and their families in order to improve these services. The Subcommittee meeting will be conducted as a telephone conference call with presentations on the Web. This meeting is open for the public to call in to listen and to access the Web presentations.

Name of Committee: Interagency Autism Coordinating Committee (IACC).

Type of meeting: Services Subcommittee.

Date: June 16, 2009.

Time: 2 p.m. to 5 p.m. Eastern Time

Agenda: To discuss autism services and supports activities; special speakers to present the CDC Learn The Signs. Act Early. Program and the HRSA Combating Autism Act Initiative.

Place: In Person: The National Institutes of Health, Executive Plaza North, 6130 Executive Boulevard, Conference Room H, Main Level, Rockville, MD 20850.

Webinar: http://www1.gotomeeting.com/register/679351441. To Access the Conference Call: Dial: 888-455-2920, Access code: 8287017.

Contact Person: Ms. Lina Perez, Office of Autism Research Coordination, Office of the Director, National Institute of Mental Health, NIH, 6001 Executive Boulevard, NSC, Room 8200, Rockville, MD 20850, 301-443-6040, IACCPublicInquiries@mail.nih.gov.

Please Note:

The meeting will be open to the public through a conference call phone number and a web presentation tool on the Internet. Individuals who participate using these electronic services and who need special assistance, such as captioning of the conference call or other reasonable accommodations, should submit a request at least 10 days prior to the meeting.

Members of the public who participate using the conference call phone number will be able to listen to the meeting but will not be heard. If members of the public experience any technical problems with the web presentation tool, they are encouraged to contact GoToWebinar at (800) 263-6317 or to send a written comment to the technical staff through the Web presentation tool.

To access the Web presentation tool on the Internet the following computer capabilities are required:

(A) Internet Explorer 5.0 or later, Netscape Navigator 6.0 or later or Mozilla Firefox 1.0 or later;

(B) Windows® 2000, XP Home, XP Pro, 2003 Server or Vista;

(C) Stable 56k, cable modem, ISDN, DSL or better Internet connection;

(D) Minimum of Pentium 400 with 256 MB of RAM (Recommended);

(E) Java Virtual Machine enabled (Recommended).

Information about the IACC is available on the Web site: http://www.iacc.hhs.gov.

Dated: May 21, 2009.
Jennifer Spaeth,
Director, Office of Federal Advisory Committee Policy.

[FR Doc. E9-12568 Filed 5-28-09; 8:45 am]

BILLING CODE 4140-01-P